DEPARTMENT OF HEALTH AND HUMAN SERVICES

National Institutes of Health

National Institute of Diabetes and Digestive and Kidney Diseases; Amended Notice of Meeting

Notice is hereby given of a change in the meeting of the Diabetes, Endocrinology and Metabolic Diseases B Subcommittee, October 20, 2010, 5 p.m. to October 22, 2010, 5 p.m., Hyatt Regency Bethesda, One Bethesda Metro Center, 7400 Wisconsin Avenue, Bethesda, MD 20814 which was published in the Federal Register on September 15, 2010, 75 FR 56117.

The meeting has been changed to October 20, 2010, 5 p.m. to October 21, 2010, 5 p.m. The location remains the same. The meeting is partially closed to the public.

Dated: September 30, 2010.
Jennifer S. Spaeth,
Director, Office of Federal Advisory Committee Policy.

[FR Doc. 2010-25175 Filed 10-5-10; 8:45 am]

BILLING CODE 4140-01-P